DEPARTMENT OF EDUCATION

Submission of Data by State Educational Agencies; Submission Dates for State Revenue and Expenditure Reports for Fiscal Year (FY) 2014, Revisions to Those Reports, and Revisions to Prior Fiscal Year Reports

AGENCY: National Center for Education Statistics, Institute of Education Sciences, Department of Education.

ACTION: Notice.

SUMMARY: The Secretary announces dates for State educational agencies(SEAs)to submit expenditure and revenue data and average daily attendance statistics on ED Form 2447 (the National Public Education Financial Survey (NPEFS)) for fiscal year (FY) 2014, revisions to those reports, and revisions to prior fiscal year reports. The Secretary sets these dates to ensure that data are available to serve as the basis for timely distribution of Federal funds. The U.S. Census Bureau is the data collection agent for this request of the Department of Education's National Center for Education Statistics (NCES). The data will be published by NCES and will be used by the Secretary in the calculation of allocations for FY 2016 appropriated funds.

DATES: SEAs can begin submitting data on Friday, January 30, 2015. The deadline for the final submission of all data, including any revisions to previously submitted data for FY 2013 and FY 2014, is Friday, August 14, 2015. Any resubmissions of FY 2013 or FY 2014 data by SEAs in response to requests for clarification, reconciliation, or other inquiries by NCES or the Census Bureau must be completed as soon as possible, but no later than Tuesday, September 8, 2015. All outstanding data issues must be reconciled or resolved by the SEAs, NCES, and the Census Bureau as soon as possible, but no later than September 8, 2015.

Addresses and Submission Information: SEAs may mail ED Form 2447 to: U.S. Census Bureau, ATTENTION: Governments Division, Washington, DC 20233-6800.

SEAs may submit data online using the interactive survey form on the NPEFS data collection Web site at: http://surveys.nces.ed.gov/ccdnpefs. The NPEFS Interactive includes a digital confirmation page where a personal identification number (PIN) may be entered. A successful entry of the PIN serves as a signature by the authorizing official. A certification form also may be printed from the Web site, signed by the authorizing official, and mailed to the Governments Division of the Census Bureau at the Washington, DC address provided above, no later than five business days of submission of the NPEFS Web interactive form.

Alternatively, SEAs may hand-deliver submissions by 4:00 p.m. (Washington, DC time) on August 14, 2015, to: Governments Division, U.S. Census Bureau, 4600 Silver Hill Road, Suitland, MD 20746.

FOR FURTHER INFORMATION CONTACT: Mr. Stephen Q. Cornman, NPEFS Project Director, National Center for Education Statistics, Institute of Education Sciences, U.S. Department of Education. Telephone: (202) 502-7338 or by email: stephen.cornman@ed.gov. You may also contact an NPEFS team member (Census Bureau). Telephone: 1-800-437-4196 or (301)763-1571 or by email: Govs.npefs.list@census.gov.

If you use a telecommunications device for the deaf (TDD) or a text telephone (TTY), call the Federal Relay Service (FRS), toll free, at 1-800-877-8339.

SUPPLEMENTARY INFORMATION: Under section 153(a)(1)(I) of the Education Sciences Reform Act of 2002, 20 U.S.C. 9543, which authorizes NCES to gather data on the financing of education, NCES collects data annually from SEAs through ED Form 2447. The report from SEAs includes attendance, revenue, and expenditure data from which NCES determines a State's “average per-pupil expenditure” (SPPE) for elementary and secondary education, as defined in section 9101(2) of the Elementary and Secondary Education Act of 1965, as amended (ESEA) (20 U.S.C. 7801(2)).

In addition to using the SPPE data as general information on the financing of elementary and secondary education, the Secretary uses these data directly in calculating allocations for certain formula grant programs, including, but not limited to, title I, part A of the ESEA, Impact Aid, and Indian Education programs. Other programs, such as the Education for Homeless Children and Youth program under Title VII of the McKinney-Vento Homeless Assistance Act and the Teacher Quality State Grants program (title II, part A of the ESEA), make use of SPPE data indirectly because their formulas are based, in whole or in part, on State Title I, part A allocations.

In January 2015, the Census Bureau, acting as the data collection agent for NCES, will email to SEAs ED Form 2447, with instructions, and will request that SEAs commence submitting FY 2014 data to the Census Bureau on Friday, January 30, 2015. SEAs are urged to submit accurate and complete data by Friday, March 13, 2015, to facilitate timely processing.

Submissions by SEAs to the Census Bureau will be analyzed for accuracy and returned to each SEA for verification. SEAs must submit all data, including any revisions to FY 2013 and FY 2014 data, to the Census Bureau no later than Friday, August 14, 2015. Any resubmissions of FY 2013 or FY 2014 data by SEAs in response to requests for clarification, reconciliation, or other inquiries by NCES or the Census Bureau must be completed by Tuesday, September 8, 2015. Between August 14, 2015, and September 8, 2015, SEAs may also, on their own initiative, resubmit data to resolve issues not addressed in their final submission of NPEFS data by August 14, 2015. All outstanding data issues must be reconciled or resolved by the SEAs, NCES, and the Census Bureau as soon as possible, but no later than September 8, 2015.

In order to facilitate timely submission of data, the Census Bureau will send reminder notices to SEAs in May, June, and July of 2015.

Having accurate, consistent, and timely information is critical to an efficient and fair Department of Education (Department) allocation process and to the NCES statistical process. To ensure timely distribution of Federal education funds based on the best, most accurate data available, the Department establishes, for program funding allocation purposes, Friday, August 14, 2015, as the final date by which the SEAs must submit data online using the interactive survey form on the NPEFS data collection Web site at: http://surveys.nces.ed.gov/ccdnpefs or ED Form 2447 must be submitted.

Any resubmissions of FY 2013 or FY 2014 data by SEAs in response to requests for clarification, reconciliation, or other inquiries by NCES or the Census Bureau must be completed through the interactive survey form on the NPEFS data collection Web site or ED Form 2447 by Tuesday, September 8, 2015. If an SEA submits revised data after the final deadline that result in a lower SPPE figure, the SEA's allocations may be adjusted downward, or the Department may direct the SEA to return funds. SEAs should be aware that all of these data are subject to audit and that, if any inaccuracies are discovered in the audit process, the Department may seek recovery of overpayments for the applicable programs.

Note: The following are important dates in the data collection process for FY 2014:

January 30, 2015—SEAs can begin to submit accurate and complete data for FY 2014 and revisions to previously submitted data for FY 2013.

March 13, 2015—Date by which SEAs are urged to submit accurate and complete data for FY 2013 and FY 2014.

August 14, 2015—Mandatory final submission date for FY 2013 and FY 2014 data to be used for program funding allocation purposes.

September 8, 2015—Mandatory final deadline for responses by SEAs to requests for clarification, reconciliation, or other inquiries by NCES or the Census Bureau. All data issues must be resolved.

If an SEA's submission is received by the Census Bureau after August 14, 2015, the SEA must show one of the following as proof that the submission was mailed on or before that date:

1. A legibly dated U.S. Postal Service postmark.

2. A legible mail receipt with the date of mailing stamped by the U.S. Postal Service.

3. A dated shipping label, invoice, or receipt from a commercial carrier.

4. Any other proof of mailing acceptable to the Secretary.

If the SEA mails ED Form 2447 through the U.S. Postal Service, the Secretary does not accept either of the following as proof of mailing:

1. A private metered postmark.

2. A mail receipt that is not dated by the U.S. Postal Service.

Note: The U.S. Postal Service does not uniformly provide a dated postmark. Before relying on this method, an SEA should check with its local post office.

Accessible Format: Individuals with disabilities may obtain this document in an accessible format (e.g., braille, large print, audiotape, or compact disc) on request to: Mr. Stephen Q. Cornman, NPEFS Project Director, National Center for Education Statistics, Institute of Education Sciences, U.S. Department of Education. Telephone: (202) 502-7338 or by email: stephen.cornman@ed.gov.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature at this site, you can limit your search to documents published by the Department.

Authority: 20 U.S.C. 9543.

Dated: January 20, 2015.
Sue Betka,
Acting Director, Institute of Education Sciences.

[FR Doc. 2015-01201 Filed 1-22-15; 8:45 am]

BILLING CODE 4000-01-P